DEPARTMENT OF DEFENSE

Office of the Secretary

U.S. Nuclear Command and Control System Comprehensive Review Advisory Committee

AGENCY: Department of Defense.

ACTION: Notice of closed meeting; rescheduled.

SUMMARY: The Department of Defense published an announcement of a closed meeting of the U.S. Nuclear Command and Control System Comprehensive Review Advisory Committee on May 15, 2009 (74 FR 22894-22895). The meeting was scheduled for June 2, 2009. This meeting has been rescheduled to June 24, 2009. All other information in the notice remains the same.

FOR FURTHER INFORMATION CONTACT: Mr. William L. Jones, (703) 681-1924, U.S. Nuclear Command and Control System Support Staff (NSS), Skyline 3, 5201 Leesburg Pike, Suite 500, Falls Church, Virginia 22041.

Dated: May 27, 2009.
Patricia L. Toppings,
OSD Federal Register Liaison Officer, Department of Defense.

[FR Doc. E9-12884 Filed 6-2-09; 8:45 am]

BILLING CODE 5001-06-P